OFFICE OF PERSONNEL MANAGEMENT

5 CFR Part 532

RIN 3206-AN15

Prevailing Rate Systems; Redefinition of the Jacksonville, FL; Savannah, GA; Hagerstown-Martinsburg-Chambersburg, MD; Richmond, VA; and Roanoke, VA, Appropriated Fund Federal Wage System Wage Areas

AGENCY: U.S. Office of Personnel Management.

ACTION: Proposed rule with request for comments.

SUMMARY: The U.S. Office of Personnel Management (OPM) is issuing a proposed rule that would redefine the geographic boundaries of the Jacksonville, FL; Savannah, GA; Hagerstown-Martinsburg-Chambersburg, MD; Richmond, VA; and Roanoke, VA, appropriated fund Federal Wage System (FWS) wage areas. The proposed rule would redefine Brantley, Glynn, and Pierce Counties, GA, from the Jacksonville wage area to the Savannah wage area; Greene County, VA, from the Hagerstown-Martinsburg-Chambersburg wage area to the Richmond wage area; and Nelson County, VA, from the Roanoke wage area to the Richmond wage area. These changes are based on recent consensus recommendations of the Federal Prevailing Rate Advisory Committee (FPRAC) to best match the counties proposed for redefinition to a nearby FWS survey area.

DATES: We must receive comments on or before March 4, 2015.

ADDRESSES: You may submit comments, identified by “RIN 3206-AN15,” using any of the following methods:

Federal eRulemaking Portal: http://www.regulations.gov. Follow the instructions for submitting comments.

Mail: Brenda L. Roberts, Deputy Associate Director for Pay and Leave, Employee Services, U.S. Office of Personnel Management, Room 7H31, 1900 E Street NW., Washington, DC 20415-8200.

Email: pay-leave-policy@opm.gov.

FOR FURTHER INFORMATION CONTACT: Madeline Gonzalez, (202) 606-2838; email pay-leave-policy@opm.gov; or FAX: (202) 606-4264.

SUPPLEMENTARY INFORMATION: OPM is issuing a proposed rule that would redefine the geographic boundaries of the Jacksonville, FL; Savannah, GA; Hagerstown-Martinsburg-Chambersburg, MD; Richmond, VA; and Roanoke, VA, appropriated fund FWS wage areas. The proposed rule would redefine Brantley and Glynn Counties, GA, from the Jacksonville wage area to the Savannah wage area; Greene County, VA, from the Hagerstown-Martinsburg-Chambersburg wage area to the Richmond wage area; and Nelson County, VA, from the Roanoke wage area to the Richmond wage area.

OPM considers the following regulatory criteria under 5 CFR 532.211 when defining FWS wage area boundaries:

(i) Distance, transportation facilities, and geographic features;

(ii) Commuting patterns; and

(iii) Similarities in overall population, employment, and the kinds and sizes of private industrial establishments.

In addition, OPM regulations at 5 CFR 532.211 do not permit splitting Metropolitan Statistical Areas (MSAs) for the purpose of defining a wage area, except in very unusual circumstances.

OPM recently completed reviews of the definitions of the Brunswick, GA and Charlottesville, VA MSAs and, based on analyses of the regulatory criteria for defining wage areas, is proposing the changes described below. FPRAC, the national labor-management committee responsible for advising OPM on matters concerning the pay of FWS employees, recommended these changes by consensus. These changes would be effective on the first day of the first applicable pay period beginning on or after 30 days following publication of the final regulations.

Brunswick, GA Metropolitan Statistical Area

Brantley, Glynn, and McIntosh Counties, GA, comprise the Brunswick, GA MSA. The Brunswick MSA is currently split between the Jacksonville, FL, and Savannah, GA, wage areas. Brantley and Glynn Counties are part of the area of application of the Jacksonville wage area and McIntosh County is part of the area of application of the Savannah wage area.

Based on an analysis of the regulatory criteria for Glynn County, the core county in the Brunswick MSA, we recommend that the entire Brunswick MSA be defined to the Savannah area of application. When measuring to cities, the distance criterion does not favor one wage area more than another. When measuring to host installations, the distance criterion favors the Savannah wage area more than the Jacksonville wage area. The commuting patterns criterion does not favor one wage area more than another. Glynn County does not resemble one survey area more than another survey area in terms of the overall population, employment, and the kinds and sizes of private industrial establishments criteria.

Based on this analysis, we find that Glynn County would be more appropriately defined to the Savannah wage area. Since there appear to be no unusual circumstances that would permit splitting the Brunswick MSA, OPM proposes to redefine Brantley and Glynn Counties to the Savannah wage area so that the entire Brunswick MSA is in one wage area. The remaining county in the Brunswick MSA, McIntosh County, is already defined to the Savannah wage area. There are currently no FWS employees working in Brantley County. There are currently 45 FWS employees working in Glynn County.

Because Pierce County, GA, borders Brantley County to the northwest and is located in-between the Brunswick MSA and the Albany, GA, and Savannah wage areas, Pierce County would also be redefined from the Jacksonville wage area to the Savannah wage area. When measuring to cities, the distance criterion does not favor one wage area more than another. When measuring to host installations, the distance criterion favors the Savannah wage area more than the Albany wage area. The commuting patterns criterion does not favor one wage area more than another. Pierce County does not favor one survey area more than another survey area in terms of the overall population and employment and the kinds and sizes of private industrial establishments criteria.

Based on this analysis, we find that Pierce County would be more appropriately defined to the Savannah wage area. There are currently no FWS employees working in Pierce County.

Charlottesville, VA Metropolitan Statistical Area

Charlottesville City, VA, and Albemarle, Buckingham, Fluvanna, Greene, and Nelson Counties, VA, comprise the Charlottesville, VA MSA. The Charlottesville MSA is split between the Hagerstown-Martinsburg-Chambersburg, MD, Richmond, VA, and Roanoke, VA, wage areas. Greene County is part of the area of application of the Hagerstown-Martinsburg-Chambersburg wage area. Charlottesville City and Albemarle, Buckingham, and Fluvanna Counties are part of the area of application of the Richmond wage area. Nelson County is part of the area of application of the Roanoke wage area.

Based on an analysis of the regulatory criteria for Greene County, the core county in the Charlottesville MSA, the entire Charlottesville MSA would be defined to the Richmond wage area. The distance criterion favors the Richmond wage area. The commuting patterns criterion slightly favors the Richmond wage area. The overall population and employment and the kinds and sizes of private industrial establishments criteria do not favor one wage area more than another.

Based on this analysis, we find that Greene County would be more appropriately defined to the Richmond wage area. Since there appear to be no unusual circumstances that would permit splitting the Charlottesville MSA, OPM proposes to redefine Greene and Nelson Counties to the Richmond wage area so that the entire Charlottesville MSA is in one wage area. The remaining city and counties in the Charlottesville MSA, Charlottesville City and Albemarle, Buckingham, and Fluvanna Counties, are already defined to the Richmond wage area. There are currently three FWS employees working in Greene County. There are currently no FWS employees working in Nelson County.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Katherine Archuleta,
Director.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

2. Appendix C to subpart B is amended by revising the wage area listings for the Jacksonville, FL; Savannah, GA; Hagerstown-Martinsburg-Chambersburg, MD; Richmond, VA; and Roanoke, VA, wage areas to read as follows:

Appendix C to Subpart B of Part 532—Appropriated Fund Wage and Survey Areas

* * * * *

FLORIDA
* * * * *
Jacksonville
Survey Area
Florida:
Alachua
Baker
Clay
Duval
Nassau
St. Johns
Area of Application. Survey area plus:
Florida:
Bradford
Citrus
Columbia
Dixie
Flagler
Gilchrist
Hamilton
Lafayette
Lake
Levy
Madison
Marion
Orange
Osceola
Putnam
Seminole
Sumter
Suwannee
Taylor
Union
Volusia
Georgia:
Camden
Charlton
* * * * *
GEORGIA
* * * * *
Savannah
Survey Area
Georgia:
Bryan
Chatham
Effingham
Liberty
Area of Application. Survey area plus:
Georgia:
Appling
Bacon
Brantley
Bulloch
Candler
Evans
Glynn
Jeff Davis
Long
McIntosh
Pierce
Screven
Tattnall
Toombs
Wayne
South Carolina:
Beaufort (the portion south of Broad River)
Hampton
Jasper
* * * * *
MARYLAND
* * * * *
Hagerstown-Martinsburg-Chambersburg
Survey Area
Maryland:
Washington
Pennsylvania:
Franklin
West Virginia:
Berkeley
Area of Application. Survey area plus:
Maryland:
Allegany
Garrett
Pennsylvania:
Fulton
Virginia (cities):
Harrisonburg
Winchester
Virginia (counties):
Frederick
Madison
Page
Rockingham
Shenandoah
West Virginia:
Hampshire
Hardy
Mineral
Morgan
* * * * *
VIRGINIA
* * * * *
Richmond
Survey Area
Virginia (cities):
Colonial Heights
Hopewell
Petersburg
Richmond
Virginia (counties):
Charles City
Chesterfield
Dinwiddie
Goochland
Hanover
Henrico
New Kent
Powhatan
Prince George
Area of Application. Survey area plus:
Virginia (cities):
Charlottesville
Emporia
Virginia (counties):
Albemarle
Amelia
Brunswick
Buckingham
Caroline
Charlotte
Cumberland
Essex
Fluvanna
Greene
Greensville
King and Queen
King William
Lancaster
Louisa
Lunenburg
Mecklenburg
Middlesex
Nelson
Northumberland
Nottoway
Orange
Prince Edward
Richmond
Sussex
Westmoreland
Roanoke
Survey Area
Virginia (cities):
Radford
Roanoke
Salem
Virginia (counties):
Botetourt
Craig
Montgomery
Roanoke
Area of Application. Survey area plus:
Virginia (cities):
Bedford
Buena Vista
Clifton Forge
Covington
Danville
Galax
Lexington
Lynchburg
Martinsville
South Boston
Staunton
Waynesboro
Virginia (counties):
Alleghany
Amherst
Appomattox
Augusta
Bath
Bedford
Bland
Campbell
Carroll
Floyd
Franklin
Giles
Halifax
Henry
Highland
Patrick
Pittsylvania
Pulaski
Rockbridge
Wythe
* * * * *

[FR Doc. 2015-01937 Filed 1-30-15; 8:45 am]

BILLING CODE 6325-39-P